DEPARTMENT OF VETERANS AFFAIRS

38 CFR Part 4

RIN 2900-AH43

Schedule for Rating Disabilities; Eye; Correction

AGENCY: Department of Veterans Affairs.

ACTION: Correcting amendment.

SUMMARY: This document contains a minor correction to the final regulations that the Department of Veterans Affairs (VA) published at 73 FR 66543 on November 10, 2008. The rulemaking revised the portion of VA's Schedule for Rating Disabilities that addresses disabilities of the eye. One of the revised regulations contains an incorrect reference, and this document corrects that error.

DATES: Effective Date: February 19, 2009.

FOR FURTHER INFORMATION CONTACT: Maya Ferrandino, Regulations Staff (211D), Compensation and Pension Service, Veterans Benefits Administration, Department of Veterans Affairs, 810 Vermont Avenue, NW., Washington, DC 20420, (727) 319-5847. (This is not a toll-free number).

SUPPLEMENTARY INFORMATION: VA published a document in the Federal Register on November 10, 2008, at 73 FR 66543, revising the portion of the Rating Schedule regarding disabilities of the eye. One of the revised regulations contains an incorrect reference. In 38 CFR 4.77(a), as revised, we state “In all cases, the results must be recorded on a standard Goldmann chart (see Figure 1), and the Goldmann chart must be included with the examination report.” However, Figure 1 is not the Goldmann chart; rather, Figure 2 contains the chart. Stating “Figure 1” instead of “Figure 2” was an inadvertent mistake. This document corrects that error. We intend no substantive change by this correction, only to revise an incorrect reference.

List of Subjects in 38 CFR Part 4

Disability benefits, Pensions, Veterans.

Approved: February 12, 2009.
William F. Russo,
Director of Regulations Management.

For the reason set out in the preamble, 38 CFR part 4 is corrected as follows:

PART 4—SCHEDULE FOR RATING DISABILITIES

1. The authority citation for part 4 continues to read as follows:

Authority: 38 U.S.C. 1155, unless otherwise noted.

§ 4.77 [Corrected]

2. In § 4.77(a) remove “(see Figure 1)” and add, in its place, “(see Figure 2)”.

[FR Doc. E9-3478 Filed 2-18-09; 8:45 am]

BILLING CODE 8320-01-P